DEPARTMENT OF HOMELAND SECURITY

Federal Emergency Management Agency

[Docket ID FEMA-2016-0002; Internal Agency Docket No. FEMA-B-1628]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 19, 2016.
Roy E. Wright,
Deputy Associate Administrator for Insurance and Mitigation, Department of Homeland Security, Federal Emergency Management Agency.

State and county | Location and case No. | Chief executive officer of community | Community map repository | Online location of letter of map revision | Effective date of modification | Community No.
Colorado:
Boulder | City of Boulder, (16-08-0026P) | Ms. Jane Brautigam, Manager, City of Boulder, 1777 Broadway Street, Boulder, CO 80302 | Park and Central Building, 1739 Broadway Street, Boulder, CO 80308 | http://www.msc.fema.gov/lomc | Aug. 18, 2016 | 080024
Colorado: | Unincorporated areas of Boulder County, (16-08-0026P) | The Honorable Elise Jones, Chair, Boulder County Board of Commissioners, 1325 Pearl Street, 3rd Floor, Boulder, CO 80302 | Boulder County Transportation Department, 2525 13th Street, Suite 203, Boulder, CO 80306 | http://www.msc.fema.gov/lomc | Aug. 18, 2016 | 080023
Florida:
Bay | City of Panama City, (16-04-0407P) | The Honorable Greg Brudnicki, Mayor, City of Panama City, 9 Harrison Avenue, Panama City, FL 32401 | Public Works Engineering Division, 9 Harrison Avenue, Panama City, FL 32401 | http://www.msc.fema.gov/lomc | Aug. 19, 2016 | 120012
Bay | City of Panama City, (16-04-1535P) | The Honorable Greg Brudnicki, Mayor, City of Panama City, 9 Harrison Avenue, Panama City, FL 32401 | Public Works Engineering Division, 9 Harrison Avenue, Panama City, FL 32401 | http://www.msc.fema.gov/lomc | Aug. 11, 2016 | 120012
Bay | Unincorporated areas of Bay County, (16-04-0407P) | The Honorable Mike Nelson, Chairman, Bay County Board of Commissioners, 840 West 11th Street, Panama City, FL 32401 | Bay County Planning and Zoning Division, 840 West 11th Street, Panama City, FL 32401 | http://www.msc.fema.gov/lomc | Aug. 19, 2016 | 120004
Bay | Unincorporated areas of Bay County, (16-04-1535P) | The Honorable Mike Nelson, Chairman, Bay County Board of Commissioners, 840 West 11th Street, Panama City, FL 32401 | Bay County Planning and Zoning Division, 840 West 11th Street, Panama City, FL 32401 | http://www.msc.fema.gov/lomc | Aug. 11, 2016 | 120004
Brevard | City of Cocoa Beach, (16-04-3178X) | The Honorable Tim Tumulty, Mayor, City of Cocoa Beach, P.O. Box 322430, Cocoa Beach, FL 32932 | Development Services Department, 2 South Orlando Avenue, Cocoa Beach, FL 32931 | http://www.msc.fema.gov/lomc | Aug. 10, 2016 | 125097
Brevard | Unincorporated areas of Brevard County, (16-04-3178X) | The Honorable Jim Barfield, Chairman, Brevard County Board of Commissioners, 2575 North Courtenay Parkway, Suite 200, Merritt Island, FL 32953 | Brevard County Public Works Department, 2725 Judge Fran Jamieson Way, Melbourne, FL 32940 | http://www.msc.fema.gov/lomc | Aug. 10, 2016 | 125092
Broward | City of Hallandale Beach, (16-04-0173P) | The Honorable Joy F. Cooper, Mayor, City of Hallandale Beach, 400 South Federal Highway, Hallandale Beach, FL 33009 | Development Services Department, 400 South Federal Highway, Hallandale Beach, FL 33009 | http://www.msc.fema.gov/lomc | Aug. 2, 2016 | 125110
Broward | Unincorporated areas of Broward County, (16-04-0173P) | Ms. Bertha Henry, Broward County Administrator, 115 South Andrews Avenue, Fort Lauderdale, FL 33301 | Broward County Environmental Licensing and Building Permitting Division, 1 North University Drive, Plantation, FL 33324 | http://www.msc.fema.gov/lomc | Aug. 2, 2016 | 125093
Charlotte | Unincorporated areas of Charlotte County, (16-04-1533P) | The Honorable Bill Truex, Chairman, Charlotte County Board of Commissioners, 18500 Murdock Circle, Suite 536, Port Charlotte, FL 33948 | Charlotte County Community Development Department, 18500 Murdock Circle, Port Charlotte, FL 33948 | http://www.msc.fema.gov/lomc | Aug. 11, 2016 | 120061
Gulf | Unincorporated areas of Gulf County, (16-04-3116X) | The Honorable Ward McDaniel, Chairman, Gulf County Board of Commissioners, 1000 Cecil G. Costin, Sr. Boulevard, Port St. Joe, FL 32456 | Gulf County Planning Department, 1000 Cecil G. Costin, Sr. Boulevard, Port St. Joe, FL 32456 | http://www.msc.fema.gov/lomc | Aug. 12, 2016 | 120098
Manatee | Unincorporated areas of Manatee County, (15-04-9689P) | The Honorable Vanessa Baugh, Chair, Manatee County Board of Commissioners, 1112 Manatee Avenue West, Bradenton, FL 34205 | Manatee County Building and Development Services Department, 1112 Manatee Avenue West, Bradenton, FL 34205 | http://www.msc.fema.gov/lomc | Aug. 24, 2016 | 120153
Miami-Dade | Unincorporated areas of Miami-Dade County, (16-04-2319P) | The Honorable Carlos A. Gimenez, Mayor, Miami-Dade County, 111 Northwest 1st Street, Miami, FL 33128 | Miami-Dade County Regulatory and Economic Resources Water Management Division, 701 Northwest 1st Court, 5th Floor, Miami, FL 33136 | http://www.msc.fema.gov/lomc | Aug. 2, 2016 | 120635
Monroe | Unincorporated areas of Monroe County, (16-04-0996P) | The Honorable Heather Carruthers, Mayor, Monroe County Board of Commissioners, 500 Whitehead Street, Suite 102, Key West, FL 33040 | Monroe County Building Department, 2798 Overseas Highway, Suite 300, Marathon, FL 33050 | http://www.msc.fema.gov/lomc | Aug. 2, 2016 | 125129
Monroe | Unincorporated areas of Monroe County, (16-04-2190P) | The Honorable Heather Carruthers, Mayor, Monroe County Board of Commissioners, 500 Whitehead Street, Suite 102, Key West, FL 33040 | Monroe County Building Department, 2798 Overseas Highway, Suite 300, Marathon, FL 33050 | http://www.msc.fema.gov/lomc | Aug. 4, 2016 | 125129
Orange | City of Orlando, (16-04-0456P) | The Honorable Buddy Dyer, Mayor, City of Orlando, P.O. Box 4990, Orlando, FL 32802 | Public Works Department, Engineering Division, 400 South Orange Avenue, 8th Floor, Orlando, FL 32801 | http://www.msc.fema.gov/lomc | Aug. 19, 2016 | 120186
Orange | Unincorporated areas of Orange County, (16-04-0456P) | The Honorable Teresa Jacobs, Mayor, Orange County, 201 South Rosalind Avenue, 5th Floor, Orlando, FL 32801 | Orange County Stormwater Division, 4200 South John Young Parkway, Orlando, FL 32839 | http://www.msc.fema.gov/lomc | Aug. 19, 2016 | 120179
St. Johns | Unincorporated areas of St. Johns County, (16-04-0993P) | The Honorable Jeb Smith, Chairman, St. Johns County Board of Commissioners, 500 San Sebastian View, St. Augustine, FL 32084 | St. Johns County Building Services Division, 4040 Lewis Speedway, St. Augustine, FL 32084 | http://www.msc.fema.gov/lomc | Aug. 11, 2016 | 125147
St. Johns | Unincorporated areas of St. Johns County, (16-04-2611P) | The Honorable Jeb Smith, Chairman, St. Johns County Board of Commissioners, 500 San Sebastian View, St. Augustine, FL 32084 | St. Johns County Building Services Division, 4040 Lewis Speedway, St. Augustine, FL 32084 | http://www.msc.fema.gov/lomc | Aug. 2, 2016 | 125147
Georgia:
Bryan | City of Richmond Hill, (16-04-2230P) | The Honorable E. Harold Fowler, Mayor, City of Richmond Hill, 40 Richard R. Davis Drive, Richmond Hill, GA 31324. | Planning and Zoning Department, 85 Richard R. Davis Drive, Richmond Hill, GA 31324 | http://www.msc.fema.gov/lomc | Aug. 5, 2016 | 130018
Bryan | Unincorporated areas of Bryan County, (16-04-2230P) | The Honorable Jimmy Burnsed, Chairman, Bryan County Board of Commissioners, 173 Davis Road, Richmond Hill, GA 31324 | Bryan County Planning and Zoning Department, 66 Captain Matthew Freeman Drive, Suite 201, Richmond Hill, GA 31324 | http://www.msc.fema.gov/lomc | Aug. 5, 2016 | 130016
Kentucky:
Jefferson | Louisville-Jefferson County Metropolitan Government, (16-04-3003X) | The Honorable Greg Fischer, Mayor, City of Louisville, 527 West Jefferson Street, 4th Floor, Louisville, KY 40202 | Metropolitan Sewer District, 700 West Liberty Street, Louisville, KY 40203 | http://www.msc.fema.gov/lomc | Aug. 1, 2016 | 210120
Louisiana:
Bossier | City of Bossier City, (15-06-2130P) | The Honorable Lorenz Walker, Mayor, City of Bossier City, P.O. Box 5337, Bossier City, LA 71171 | City Hall, 620 Benton Road, Bossier City, LA 71171 | http://www.msc.fema.gov/lomc | Aug. 18, 2016 | 220033
Bossier | Unincorporated areas of Bossier Parish, (15-06-2130P) | The Honorable William R. Altimus, Bossier Parish Administrator, P.O. Box 70, Benton, LA 71006 | Bossier Parish Courthouse, 204 Burt Boulevard, Benton, LA 71006 | http://www.msc.fema.gov/lomc | Aug. 18, 2016 | 220031
Massachusetts: Barnstable | Town of Falmouth, (16-01-0373P) | The Honorable Doug Jones, Chairman, Town of Falmouth Board of Selectmen, 59 Town Hall Square, Falmouth, MA 02540 | Town Hall, 59 Town Hall Square, Falmouth, MA 02540 | http://www.msc.fema.gov/lomc | Aug. 15, 2016 | 255211
North Carolina:
Buncombe | Unincorporated areas of Buncombe County, (15-04-8908P) | The Honorable David Gantt, Chairman, Buncombe County Board of Commissioners, 200 College Street, Suite 316, Asheville, NC 28801 | Buncombe County Planning Department, 46 Valley Street Asheville, NC 28801 | http://www.msc.fema.gov/lomc | Aug. 5, 2016 | 370031
Burke | Unincorporated areas of Burke County, (15-04-9342P) | The Honorable Wayne F. Abele, Sr, Chairman, Burke County Board of Commissioners, P.O. Box 219, Morganton, NC 28680 | Burke County Services Building, 110 North Green Street Morganton, NC 28680 | http://www.msc.fema.gov/lomc | Aug. 1, 2016 | 370034
Orange | Town of Chapel Hill, (16-04-4141X) | The Honorable Pam Hemminger, Mayor, Town of Chapel Hill, 405 Martin Luther King Jr. Boulevard, Chapel Hill, NC 27514 | Public Works Department, Stormwater Division, 405 Martin Luther King Jr. Boulevard, Chapel Hill, NC 27514 | http://www.msc.fema.gov/lomc | Aug. 18, 2016 | 370180
Oklahoma: Payne | Unincorporated areas of Payne County, (15-06-3395P) | The Honorable Kent Bradley, Chairman, Payne County Board of Commissioners, 506 Expo Circle South, Stillwater, OK 74074 | Payne County Floodplain Administrator's Office, 315 West 6th Avenue, Suite 203, Stillwater, OK 74074 | http://www.msc.fema.gov/lomc | Aug. 22, 2016 | 400493
Pennsylvania:
Montgomery | Borough of Ambler, (15-03-2420P) | The Honorable Salvatore Pasceri, President, Borough of Ambler Council, 131 Rosemary Avenue, Ambler, PA 19002 | Borough Hall, 131 Rosemary Avenue, Ambler, PA 19002 | http://www.msc.fema.gov/lomc | Aug. 1, 2016 | 420947
Montgomery | Township of Lower Gwynedd, (15-03-2420P) | The Honorable Stephen J. Paccione, Chairman, Township of Lower Gwynedd Board of Supervisors, P.O. Box 625, Spring House, PA 19477 | Township Hall, 1130 North Bethlehem Pike, Spring House, PA 19477 | http://www.msc.fema.gov/lomc | Aug. 1, 2016 | 420953
Montgomery | Township of Upper Dublin, (15 03 2420P) | The Honorable Ira S. Tackel, President, Township of Upper Dublin Board of Commissioners, 801 Loch Alsh Avenue, Fort Washington, PA 19034 | Township Hall, 801 Loch Alsh Avenue, Fort Washington, PA 19034 | http://www.msc.fema.gov/lomc | Aug. 1, 2016 | 420708
Montgomery | Township of Whitemarsh, (15-03-2924P) | The Honorable Amy P. Grossman, Chair, Township of Whitemarsh Board of Supervisors, 616 Germantown Pike, Lafayette Hill, PA 19444 | Township Administrative Building, 616 Germantown Pike, Lafayette Hill, PA 19444 | http://www.msc.fema.gov/lomc | Aug. 16, 2016 | 420712
Montgomery | Township of Whitpain, (15-03-2420P) | The Honorable Adam Zucker, Chairman, Township of Whitpain Board of Supervisors, 960 Wentz Road, Blue Bell, PA 19422 | Township Hall, 960 Wentz Road, Blue Bell, PA 19422 | http://www.msc.fema.gov/lomc | Aug. 1, 2016 | 420713
Tennessee:
Hamilton | City of Chattanooga, (15-04-3964P) | The Honorable Andy Berke, Mayor, City of Chattanooga, 101 East 11th Street, Chattanooga, TN 37402 | Planning Department, 1250 Market Street, Chattanooga, TN 37402 | http://www.msc.fema.gov/lomc | Aug. 5, 2016 | 470072
Hamilton | City of Chattanooga, (15-04-9959P) | The Honorable Andy Berke, Mayor, City of Chattanooga, 101 East 11th Street, Chattanooga, TN 37402 | Planning Department, 1250 Market Street, Chattanooga, TN 37402 | http://www.msc.fema.gov/lomc | Jun. 6, 2016 | 470072
Hamilton | City of East Ridge, (15-04-3964P) | The Honorable Brent Lambert, Mayor, City of East Ridge, 1517 Tombras Avenue, East Ridge, TN 37412 | Codes Division, 1517 Tombras Avenue, East Ridge, TN 37412 | http://www.msc.fema.gov/lomc | Aug. 5, 2016 | 475424
Sequatchie | City of Dunlap, (16-04-1892P) | The Honorable Dwain Land, Mayor, City of Dunlap, P.O. Box 546, Dunlap, TN 37327 | City Hall, 15595 Rankin Avenue, Dunlap, TN 37327 | http://www.msc.fema.gov/lomc | Jul. 8, 2016 | 470270
Texas:
Bexar | City of San Antonio, (16-06-1080P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Aug. 9, 2016 | 480045
Bexar | Unincorporated areas of Bexar County, (15-06-3161P) | The Honorable Nelson W. Wolff, Bexar County Judge, Paul Elizondo Tower, 101 West Nueva Street, 10th Floor, San Antonio, TX 78205 | Bexar County Public Works Department, 233 North Pecos La Trinidad Street, Suite 420, San Antonio, TX 78207 | http://www.msc.fema.gov/lomc | Jul. 22, 2016 | 480035
Collin | Town of Westminster, (16-06-0644P) | Mr. Phil Goplin, President, Westminster Special Utility District, 409 East Houston Street, Westminster, TX 75485 | Town Hall, 309 West Houston Street, Westminster, TX 75069 | http://www.msc.fema.gov/lomc | Jul. 17, 2016 | 480758
Collin | Unincorporated areas of Collin County, (16-06-0644P) | The Honorable Keith Self, Collin County Judge, 2300 Bloomdale Road, Suite 4192, McKinney, TX 75071 | Collin County Engineering Department, 4690 Community Avenue, Suite 200, McKinney, TX 75071 | http://www.msc.fema.gov/lomc | Jul. 17, 2016 | 480130
Comal | City of Fair Oaks Ranch, (15-06-3044P) | The Honorable Cheryl Landman, Mayor, City of Fair Oaks Ranch, 7286 Dietz Elkhorn Road, Fair Oaks Ranch, TX 78015 | Public Works Department, 7286 Dietz Elkhorn Road, Fair Oaks Ranch, TX 78015 | http://www.msc.fema.gov/lomc | Aug. 15, 2016 | 481644
Dallas | City of Dallas, (15-06-4110P) | The Honorable Michael S. Rawlings, Mayor, City of Dallas, 1500 Marilla Street, Room 5EN, Dallas, TX 75201 | Engineering Department, 320 East Jefferson Boulevard, Room 200, Dallas, TX 75203 | http://www.msc.fema.gov/lomc | Aug. 8, 2016 | 480171
Denton | City of Carrollton, (15-06-2940P) | The Honorable Matthew Marchant, Mayor, City of Carrollton, P.O. Box 110535, Carrollton, TX 75011 | Engineering Department, 1945 East Jackson Road, Carrollton, TX 75011 | http://www.msc.fema.gov/lomc | Aug. 22, 2016 | 480167
Fort Bend | Unincorporated areas of Fort Bend County, (16-06-1119P) | The Honorable Robert Hebert, Fort Bend County Judge, 401 Jackson Street, Richmond, TX 77469 | Fort Bend County Engineering Department, 301 Jackson Street, 4th Floor, Richmond, TX 77469 | http://www.msc.fema.gov/lomc | Aug. 18, 2016 | 480228
Harris | Unincorporated areas of Harris County, (16-06-1373P) | The Honorable Edward M. Emmett, Harris County Judge, 1001 Preston Street, Suite 911, Houston, TX 77002 | Harris County Permit Office, 10555 Northwest Freeway, Suite 120, Houston, TX 77092 | http://www.msc.fema.gov/lomc | Aug. 9, 2016 | 480287
Tarrant | City of Colleyville, (15-06-4177P) | The Honorable David Kelly, Mayor, City of Colleyville, 100 Main Street, Colleyville, TX 76034 | Public Works Department, 100 Main Street, Colleyville, TX 76034 | http://www.msc.fema.gov/lomc | Aug. 11, 2016 | 480590
Utah: Davis | City of North Salt Lake, (15-08-1306P) | The Honorable Len Arave, Mayor, City of North Salt Lake, 10 East Center Street, North Salt Lake, UT 84054 | City Hall, 10 East Center Street, North Salt Lake, UT 84054 | http://www.msc.fema.gov/lomc | Aug. 5, 2016 | 490048
Virginia:
Prince William | City of Manassas, (15-03-2702P) | The Honorable Harry J. Parrish II, Mayor, City of Manassas, 9027 Center Street, Manassas, VA 20110 | City Hall, 9027 Center Street, Manassas, VA 20110 | http://www.msc.fema.gov/lomc | Aug. 11, 2016 | 510122
Prince William | Unincorporated areas of Prince William County, (15-03-1042P) | The Honorable Christopher E. Martino, Acting Prince William County Executive, 1 County Complex Court, Prince William, VA 22192 | Prince William County Department of Public Works, 5 County Complex Court, Prince William, VA 22192 | http://www.msc.fema.gov/lomc | Aug. 4, 2016 | 510119
Prince William | Unincorporated areas of Prince William County, (15-03-2702P) | The Honorable Christopher E. Martino, Acting Prince William County Executive, 1 County Complex Court, Prince William, VA 22192 | Prince William County Department of Public Works, 5 County Complex Court, Prince William, VA 22192 | http://www.msc.fema.gov/lomc | Aug. 11, 2016 | 510119

[FR Doc. 2016-13807 Filed 6-9-16; 8:45 am]

BILLING CODE 9110-12-P